DEPARTMENT OF HEALTH AND HUMAN SERVICES

National Biodefense Science Board: In-Person Meeting

AGENCY: Office of the Assistant Secretary for Preparedness and Response (ASPR), Department of Health and Human Services (HHS).

ACTION: Notice.

SUMMARY: The HHS Office of the Secretary is hosting the National Biodefense Science Board (NBSB) at an In-Person Meeting in Washington, DC, on June 10-11, 2019. The purpose of the NBSB In-Person Meeting is to gather expert advice provided by NBSB and guidance to the Secretary on scientific, technical, and other matters of special interest to HHS regarding current and future chemical, biological, nuclear, and radiological agents, whether naturally occurring, accidental, or deliberate.

DATES: The NBSB In-Person Meeting is being held on June 10-11, 2019, from 9:00 a.m. to 5:00 p.m. Eastern Daylight Time (EDT).

ADDRESSES: Please visit the NBSB website (https://www.phe.gov/nbsb) for all additional information regarding NBSB or the In-Person Meeting.

FOR FURTHER INFORMATION CONTACT: CDR Christopher Perdue, MD, MPH, Designated Federal Official, NBSB, ASPR, HHS; 202-401-5837; christopher.perdue@hhs.gov.

SUPPLEMENTARY INFORMATION: Pursuant to section 319M of the Public Health Service Act, HHS has established the NBSB to provide expert advice and guidance to the Secretary on scientific, technical, and other matters of special interest to HHS regarding current and future chemical, biological, nuclear, and radiological agents, whether naturally occurring, accidental, or deliberate.

Availability of Materials: Participants are encouraged to visit the NBSB website (http://www.phe.gov/nbsb) for information about the meeting, including the agenda.

Procedures for Providing Public Input: Members of the public are encouraged to go to the NBSB website (http://www.phe.gov/nbsb) for instructions about the submission of written comments.

Dated: April 25, 2019.
Robert P. Kadlec,
Assistant Secretary for Preparedness and Response.

[FR Doc. 2019-08943 Filed 5-1-19; 8:45 am]

BILLING CODE 4150-37-P